SECURITIES AND EXCHANGE COMMISSION

[File No. 500-1]

Jetronic Industries, Inc. (n/k/a New Bastion Development, Inc.), JMAR Technologies, Inc., Kolorfusion International, Inc. Legalopinion.com (n/k/a Drayton Richdale Corp.), Lifestream Technologies, Inc., Lions Petroleum, Inc., (n/k/a China Hongxing Agritech, Inc.), Luna Technologies International, Inc., Litewave Corp., MDI, Inc., and MobilePro Corp.; Order of Suspension of Trading

DATE: February 23, 2012.

It appears to the Securities and Exchange Commission that there is a lack of current and accurate information concerning the securities of Jetronic Industries, Inc. (n/k/a New Bastion Development, Inc.) because it has filed only two periodic reports since the period ended January 31, 2000.

It appears to the Securities and Exchange Commission that there is a lack of current and accurate information concerning the securities of JMAR Technologies, Inc. because it has not filed any periodic reports since the period ended September 30, 2008.

It appears to the Securities and Exchange Commission that there is a lack of current and accurate information concerning the securities of Kolorfusion International, Inc. because it has not filed any periodic reports since September 30, 2008.

It appears to the Securities and Exchange Commission that there is a lack of current and accurate information concerning the securities of Legalopinion.com (n/k/a Drayton Richdale Corp.) because it has not filed any periodic reports from the period ended December 31, 2000 through the period ended December 31, 2008, or from the period ended June 30, 2009 through the period ended September 30, 2010.

It appears to the Securities and Exchange Commission that there is a lack of current and accurate information concerning the securities of Lifestream Technologies, Inc. because it has not filed any periodic reports since the period ended March 31, 2006.

It appears to the Securities and Exchange Commission that there is a lack of current and accurate information concerning the securities of Lions Petroleum, Inc. (n/k/a China Hongxing Agritech, Inc.) because it has not filed any periodic reports since the period ended December 31, 2007.

It appears to the Securities and Exchange Commission that there is a lack of current and accurate information concerning the securities of Luna Technologies International, Inc. because it has not filed any periodic reports since the period ended September 30, 2006.

It appears to the Securities and Exchange Commission that there is a lack of current and accurate information concerning the securities of Litewave Corp. because it has not filed any periodic reports since the period ended September 30, 2009.

It appears to the Securities and Exchange Commission that there is a lack of current and accurate information concerning the securities of MDI, Inc. because it has not filed any periodic reports since the period ended September 30, 2009.

It appears to the Securities and Exchange Commission that there is a lack of current and accurate information concerning the securities of MobilePro Corp. because it has not filed any periodic reports since the period ended March 31, 2009.

The Commission is of the opinion that the public interest and the protection of investors require a suspension of trading in the securities of the above-listed companies.

Therefore, it is ordered, pursuant to Section 12(k) of the Securities Exchange Act of 1934, that trading in the securities of the above-listed companies is suspended for the period from 9:30 a.m. EST on February 23, 2012, through 11:59 p.m. EST on March 7, 2012.

By the Commission.
Jill M. Peterson,
Assistant Secretary.

[FR Doc. 2012-4619 Filed 2-23-12; 8:45 am]

BILLING CODE 8011-01-P